DEPARTMENT OF THE INTERIOR

Bureau of Reclamation

Glen Canyon Dam Adaptive Management Work Group (AMWG)

AGENCY: Bureau of Reclamation, Interior.

ACTION: Notice of Public Meeting.

SUMMARY: The Adaptive Management Program (AMP) was implemented as a result of the Record of Decision on the Operation of Glen Canyon Dam Final Environmental Impact Statement to comply with consultation requirements of the Grand Canyon Protection Act (Pub. L. 102-575) of 1992. The AMP includes a federal advisory committee (AMWG), a technical work group (TWG), a monitoring and research center, and independent review panels. The AMWG makes recommendations to the Secretary of the Interior concerning Glen Canyon Dam operations and other management actions to protect resources downstream of Glen Canyon Dam consistent with the Grand Canyon Protection Act. The TWG is a subcommittee of the AMWG and provides technical advice and recommendations to the AMWG.

Dates and Addresses: The AMWG will conduct the following meeting:

Date: Thursday, May 22, 2008. The meeting will begin at 9:15 a.m. and conclude at 5 p.m. on the first day and will begin at 8 a.m. and conclude at 2 p.m. on the second day. The meeting will be held at the Bureau of Indian Affairs, 2 Arizona Center, 400 N. 5th Street, 12th Floor, Conference Rooms A&B, in Phoenix, Arizona.

Agenda: The purpose of the meeting will be for the AMWG to receive updates and discuss the following items: (1) Preliminary results from the March 2008 high flow experiment, (2) humpback chub comprehensive plan and recovery plan updates, (3) science symposium planning, (4) 2008 fiscal year expenditures, (5) draft 2009 fiscal year budget, (6) AMP strategic plan revision, (7) next steps for AMP experiments, and (8) other subjects of AMP administration. To view a copy of the draft agenda, please visit Reclamation's Web site at: http://www.usbr.gov/uc/rm/amp/amwg/mtgs/08may22/index.html.

Time will be allowed for any individual or organization wishing to make formal oral comments at the meeting. To allow for full consideration of information by the AMWG members, written notice must be provided to Dennis Kubly, Bureau of Reclamation, Upper Colorado Regional Office, 125 South State Street, Room 6107, Salt Lake City, Utah, 84138; telephone 801-524-3715; facsimile 801-524-3858; e-mail at dkubly@uc.usbr.gov at least five (5) days prior to the call. Any written comments received will be provided to the AMWG members.

FOR FURTHER INFORMATION CONTACT: Dennis Kubly, Bureau of Reclamation, telephone (801) 524-3715; facsimile (801) 524-3858; e-mail at dkubly@uc.usbr.gov.

Dated: April 14, 2008.
Dennis Kubly,
Chief, Adaptive Management Group, Environmental Resources Division, Upper Colorado Regional Office, Salt Lake City, Utah.

[FR Doc. E8-9192 Filed 4-25-08; 8:45 am]

BILLING CODE 4310-MN-P